DEPARTMENT OF AGRICULTURE

Forest Service

Notice of Idaho Panhandle Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Idaho Panhandle National Forests' Idaho Panhandle Resource Advisory Committee will meet Friday, January 18, 2002 in Coeur d'Alene, Idaho for a business meeting. The meeting is open to the public.

FOR FURTHER INFORMATION CONTACT: Ranotta K. McNair, Forest Supervisor and Designated Federal Officer, at (208) 765-7210.

SUPPLEMENTARY INFORMATION: The business meeting on January 18, begins at 10:00 AM, at the Forest Supervisor's Office of the Idaho Panhandle National Forests, 3815 Schreiber Way, Coeur d'Alene, Idaho 83815. Agenda topics will include election of Chairperson, develop criteria for reviewing project proposals, how to solicit projects, review project proposals, if available, and establishment of future meeting schedule. Due to unforeseen circumstances this document will be published less than 15 days before the meeting date.

Dated: December 28, 2001.
Pat Aguilar,
Deputy Forest Supervisor.

[FR Doc. 02-242 Filed 1-3-02; 8:45 am]

BILLING CODE 3410-11-M